DEPARTMENT OF HOUSING AND URBAN DEVELOPMENT

[DOCKET NO. 6367-N-01]

Preview of the FY 2022 Family Unification Program; Notice of Funding Opportunity

AGENCY: Office of Public and Indian Housing, Department of Housing and Urban Development (HUD).

ACTION: Notice.

SUMMARY: Through this notice, HUD is announcing the publication of a preview of the Fiscal Year (FY) 2022 Family Unification Program (FUP) Notice of Funding Opportunity (NOFO) in advance of publication on Grants.gov. HUD is making this preview available to allow interested applicants to review the preview of the NOFO, submit questions, and prepare applications. HUD intends to publish the NOFO and allow submission of applications in March of 2023.

FOR FURTHER INFORMATION CONTACT: Ryan E. Jones, Director, Housing Voucher Management and Operations Division, Office of Public and Indian Housing, Department of Housing and Urban Development, 451 7th Street SW, Washington, DC 20410-8000; telephone number 202-402-2677 (this is not a toll-free number); email 2022FUPNOFO@hud.gov. HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: HUD is publishing a preview of the FY 2022 FUP NOFO to give interested applicants time to prepare their applications prior to the opening of the application period. HUD expects that this preview will be available for approximately 90 days before HUD publishes the official NOFO on Grants.gov and begins to take applications. During this preview, the FY 2022 FUP NOFO preview is available on HUD's website at the following URL: https://www.hud.gov/grants.

This NOFO preview is subject to change. While HUD does not intend to make substantive changes at this point, applicants should consider the NOFO published on Grants.gov to be the official version.

HUD will not accept applications during the preview period. However, during this preview, interested applicants may submit questions on the NOFO preview to the following email address: 2022FUPNOFO@hud.gov (see Sections VII and VIII.3. of the NOFO preview). Interested applicants may also conduct the required registration activities for the System for Award Management (SAM), Unique Entity Identifier (UEI), and Grants.gov (see Section IV.C. of the NOFO preview).

HUD strongly encourages interested applicants to begin working with their partnering public child welfare agency (PCWA) and Continuum of Care (CoC) to draft their Memorandum of Understanding (MOU) during the preview period. Please note that while interested applicants may work on their MOUs during the preview period, the NOFO requires that the MOU must be signed between the date the NOFO is published on Grants.gov and the application deadline.

HUD anticipates that the FY 2022 FUP NOFO will be published on Grants.gov in March 2023. The publication of the FY 2022 FUP NOFO on Grants.gov will signal the opening of the application period. The application period will be open for 30 days. Applications must be submitted through Grants.gov.

HUD will not accept requests for a waiver of electronic submission requirements during the preview period. Such requests may only be submitted once the NOFO has been published on Grants.gov (see Section IV.A. of the NOFO preview).

Dominique Blom,
General Deputy Assistant Secretary for Public and Indian Housing.

[FR Doc. 2022-27109 Filed 12-14-22; 8:45 am]

BILLING CODE 4210-67-P